DEPARTMENT OF THE INTERIOR

National Park Service

[NPS-WASO-NAGPRA-NPS0038468; PPWOCRADN0-PCU00RP14.R50000]

Notice of Inventory Completion: New York State Museum, Albany, NY

AGENCY: National Park Service, Interior.

ACTION: Notice.

SUMMARY: In accordance with the Native American Graves Protection and Repatriation Act (NAGPRA), the New York State Museum (NYSM) has completed an inventory of human remains and associated funerary objects and has determined that there is a cultural affiliation between the human remains and associated funerary objects and Indian Tribes or Native Hawaiian organizations in this notice.

DATES: Repatriation of the human remains and associated funerary objects in this notice may occur on or after September 11, 2024.

ADDRESSES: Lisa Anderson, New York State Museum, 3049 Cultural Education Center, Albany, NY 12230, telephone (518) 486-2020, email lisa.anderson@nysed.gov.

SUPPLEMENTARY INFORMATION: This notice is published as part of the National Park Service's administrative responsibilities under NAGPRA. The determinations in this notice are the sole responsibility of the New York State Museum, and additional information on the determinations in this notice, including the results of consultation, can be found in its inventory or related records. The National Park Service is not responsible for the determinations in this notice.

Abstract of Information Available

Human remains representing, at least, one individual have been identified. No associated funerary objects are present. The human remains are from the Bates site, Chenango County, NY and were acquired in 1957 through excavations conducted by Dr. William A. Ritchie of the NYSM.

Human remains representing, at least, one individual have been identified. The 14 associated funerary objects are three carbonized textile fragments, six samples of carbonized cordage fragments, four samples of fire-reddened clay, and one sample of carbonized organic material. The human remains and associated funerary objects were removed from the White site, Chenango County, NY, in 1974 and donated to the NYSM by the family of Mr. Stanford Gibson in 2009.

Human remains representing, at least, one individual have been identified. No associated funerary objects are present. The human remains were removed from the Bronck site, Madison County, NY, in the 1970s and donated to the NYSM by the family of Mr. Stanford Gibson in 2009.

Human remains representing, at least, eight individuals have been identified. No associated funerary objects are present. The human remains were removed from the Diable site, Madison County, NY, in 1986-1987 and donated to the NYSM by families of Dr. Alexander Neill in 2007, Mr. Daniel Weiscotten in 2008, and Mr. Stanford Gibson in 2009.

Human remains representing, at least, one individual have been identified. No associated funerary objects are present. The human remains were removed from the Marshall site, Madison County, NY, in 1988 and donated to the NYSM in 2007 by the family of Dr. Alexander Neill.

Human remains representing, at least, one individual have been identified. The 193 associated funerary objects are 118 very small purple disk shell beads, 72 very small white disk shell beads, two glass beads, and one Job's Tear seed bead. The human remains and associated funerary objects were removed from the vicinity of Munnsville, Madison County, NY, prior to 1889 and given to Rev. William M. Beauchamp. They were donated to the NYSM by his daughter, Mrs. Grace B. Lodder in 1949.

Human remains representing, at least, one individual have been identified. No associated funerary objects are present. The human remains are from the vicinity of Utica, Oneida County, NY, and were donated to the NYSM by Mr. George C. Hodges in 1934.

Human remains representing, at least, one individual have been identified. No associated funerary objects are present. The human remains were removed from the Washburn site, St. Lawrence County, NY, during an archaeological survey conducted in 1954 by Dr. William A. Ritchie of the NYSM.

Human remains representing, at least 17 individuals have been identified. The 24 associated funerary objects include one Brewerton type projectile point, 12 small mica flakes, 10 soil samples, and one pottery rim sherd. The human remains and associated funerary objects were removed from the Clark site, St. Lawrence County, NY, during excavations conducted in 1954 by Dr. William A. Ritchie of the NYSM.

Human remains representing, at least, two individuals have been identified. The 22 associated funerary objects are one groundstone celt, one groundstone celt fragment, and 20 pottery sherds. The human remains and associated funerary objects were removed from the Pine Hill site, St. Lawrence County, NY, and donated to the NYSM in 1958 by Mr. Lester Laird.

Human remains representing, at least two individuals have been identified. The 22 associated funerary objects are 22 small black glass beads. The human remains and associated funerary objects were found during gravel mining on the William Walker Farm, St. Lawrence County, NY, and donated to the NYSM by Mr. William Walker in 1952.

Cultural Affiliation

Based on the information available and the results of consultation, cultural affiliation is reasonably identified by the geographical location or acquisition history of the human remains and associated funerary objects described in this notice.

Determinations

The New York State Museum has determined that:

• The human remains described in this notice represent the physical remains of 36 individuals of Native American ancestry.

• The 275 objects described in this notice are reasonably believed to have been placed intentionally with or near individual human remains at the time of death or later as part of the death rite or ceremony.

• There is a connection between the human remains and associated funerary objects described in this notice and the Oneida Indian Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 11, 2024. If competing requests for repatriation are received, the New York State Museum must determine the most appropriate requestor prior to repatriation. Requests for joint repatriation of the human remains and associated funerary objects are considered a single request and not competing requests. The New York State Museum is responsible for sending a copy of this notice to the Indian Tribes and Native Hawaiian organizations identified in this notice.

Authority: Native American Graves Protection and Repatriation Act, 25 U.S.C. 3003, and the implementing regulations, 43 CFR 10.10.

Dated: August 1, 2024.
Melanie O'Brien,
Manager, National NAGPRA Program.

[FR Doc. 2024-17881 Filed 8-9-24; 8:45 am]

BILLING CODE 4312-52-P